DEPARTMENT OF HEALTH AND HUMAN SERVICES

Centers for Disease Control and Prevention

Meeting of the Healthcare Infection Control Practices Advisory Committee

AGENCY: Centers for Disease Control and Prevention (CDC), Department of Health and Human Services (HHS).

ACTION: Notice of meeting.

SUMMARY: In accordance with the Federal Advisory Committee Act, the Centers for Disease Control and Prevention announces the following meeting for the Healthcare Infection Control Practices Advisory Committee (HICPAC). This virtual meeting is open to the public, limited only by the number of audio and web conference lines (500 audio and web conference lines are available). Time will be available for public comment.

DATES: The meeting will be held on August 22, 2024, from 9 a.m. to 5 p.m., EDT.

ADDRESSES: The meeting will be webcast live via the World Wide Web. The webcast link can be found on the HICPAC website: https://www.cdc.gov/hicpac/meeting.html.

FOR FURTHER INFORMATION CONTACT: Sydnee Byrd, M.P.A., Committee Management Specialist, Healthcare Infection Control Practices Advisory Committee, Division of Healthcare Quality Promotion, National Center for Emerging and Zoonotic Infectious Diseases, Centers for Disease Control and Prevention, 1600 Clifton Road NE, Mailstop H16-3, Atlanta, Georgia 30329-4027. Telephone: (404) 718-8039; Email: hicpac@cdc.gov.

SUPPLEMENTARY INFORMATION:

Purpose: The Committee is charged with providing advice and guidance to the Director, Division of Healthcare Quality Promotion (DHQP), the Director, National Center for Emerging and Zoonotic Infectious Diseases (NCEZID), the Director, CDC, and the Secretary, Department of Health and Human Services, regarding (1) the practice of healthcare infection prevention and control; (2) strategies for surveillance, prevention, and control of infections, antimicrobial resistance, and related events in settings where healthcare is provided; and (3) periodic updating of CDC guidelines and other policy statements regarding prevention of healthcare-associated infections and healthcare-related conditions.

Matters to be Considered: The agenda will include the following updates: The Healthcare Personnel Guideline Workgroup; Isolation Precautions Guideline Workgroup; Dental Unit Waterlines Guideline Update; Division of Health Quality Promotion Updates; Review of Viral Hemorrhagic Fever Update; Pathogen Reduction Guidance Introduction; NHSN Update; Recommendation Categorization Framework Update. Agenda items are subject to change.

Public Participation

Oral Public Comment: This meeting will include time for members of the public to make an oral comment. Priority will be given to individuals who submit a request to make an oral public comment before the meeting according to the procedures below. All persons interested in making an oral public comment at the August 22, 2024 HICPAC meeting must submit a request between July 26, 2024, and August 12, 2024, at https://www.cdc.gov/hicpac/meeting.html no later than 11:59 p.m., EDT, August 12, 2024, according to the instructions provided on the HICPAC website. If the number of persons requesting to speak is greater than can be reasonably accommodated during the scheduled time, CDC will conduct a lottery to determine the speakers for the scheduled public comment session. CDC staff will notify individuals regarding their request to speak by email by August 17, 2024.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-17220 Filed 8-2-24; 8:45 am]

BILLING CODE 4163-18-P